DEPARTMENT OF COMMERCE

National Oceanic and Atmospheric Administration

[RTID 0648-XE407]

Endangered and Threatened Species; Initiation of 5-Year Review for the Saimaa Seal (Phoca (or Pusa) hispida saimensis)

AGENCY: National Marine Fisheries Service (NMFS), National Oceanic and Atmospheric Administration (NOAA), Commerce.

ACTION: Notice of initiation of 5-year review; request for information.

SUMMARY: NMFS announces its intent to conduct a 5-year review of the endangered ringed seal, Saimaa subspecies (Phoca (or Pusa) hispida saimensis), hereafter referred to as the Saimaa seal. NMFS is required by the Endangered Species Act (ESA) to conduct 5-year reviews to ensure that listing classifications of species are accurate. The 5-year review must be based on the best scientific and commercial data available at the time of the review. We request submission of any such information on the Saimaa seal, particularly information on its status, threats, and conservation efforts, which has become available since the previous 5-year review in January 2018.

DATES: To allow us adequate time to conduct this review, we must receive your information no later than December 30, 2024. However, we will continue to accept new information about any listed species at any time.

ADDRESSES: Submit your information, identified by docket number NOAA-NMFS-2024-0126, by the following method:

• Electronic Submissions: Submit all electronic comments via the Federal eRulemaking Portal. Go to www.regulations.gov and enter NOAA-NMFS-2024-0126 in the Search box. Click on the “Comment” icon, complete the required fields, and enter or attach your comments.

Instructions: NMFS may not consider comments or other information if sent by any other method, to any other address or individual, or received after the comment period ends. All comments and information received are a part of the public record and NMFS will post the comments for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Chris Parsons, NOAA Affiliate, (301) 427-8403 or Chris.Parsons@noaa.gov.

SUPPLEMENTARY INFORMATION: This notice announces our active review of the Saimaa seal (Phoca (or Pusa) hispida saimensis), currently listed as endangered (58 FR 26920; June 7, 1993). It should be noted that in 2014, the scientific name of the Saimaa seal was updated in the list of endangered species to reflect use of either of the genus names Phoca or Pusa (79 FR 20802; April 14, 2014).

Section 4(c)(2)(A) of the ESA requires that the Secretary, through NMFS, conduct a review of listed species at least once every 5 years. The species was last reviewed in 2018 (82 FR 28304; June 21, 2017). The regulations in 50 CFR 424.21 require that we publish a notice in the Federal Register announcing species currently under active review. Based on such reviews, we determine whether a listed species should be removed from the list (i.e., delisted), or be changed in status from endangered to threatened or from threatened to endangered (16 U.S.C. 1533(c)(2)(B)). As described by the regulations in 50 CFR 424.11(e), the Secretary shall delist a species if the Secretary determines, based on consideration of the factors and standards set forth in 50 CFR 424.11(c), that the best scientific and commercial data available substantiate that that, after conducting a status review based on the best scientific and commercial data available: (1) the species is extinct; (2) the species has recovered to the point at which it no longer meets the definition of an endangered species or a threatened species; or (3) new information that has become available since the original listing decision shows that the listed entity does not meet the definition of an endangered species or a threatened species; or (4) new information that has become available since the original listing decision shows the listed entity does not meet the definition of a species. Any change in Federal status would require a separate rulemaking process.

Background information on the Saimaa seal is available on the NMFS website at: https://www.fisheries.noaa.gov/species/ringed-seal.

Public Solicitation of New Relevant Information

To ensure that the 5-year review is complete and based on the best scientific and commercial data available, we are soliciting new information from the public, governmental agencies, Tribes, the scientific community, industry, environmental entities, and any other interested parties concerning the status of the listed Saimaa seal. Categories of requested information include: (1) species biology including, but not limited to, population trends, distribution, abundance, demographics, and genetics; (2) habitat conditions including, but not limited to, amount, distribution, suitability, and important features for conservation; (3) degree, nature, and trends of threats to the species and its habitats; (4) conservation measures that have been implemented that benefit the species, including monitoring data demonstrating effectiveness of such measures; and (5) other new information, data, or corrections including, but not limited to, taxonomic or nomenclatural changes and improved analytical methods for evaluating extinction risk.

If you wish to provide information for the review, you may submit your information and materials electronically (see ADDRESSES section). We request that all information be accompanied by supporting documentation such as maps, bibliographic references, or reprints of pertinent publications.

Authority: 16 U.S.C. 1531 et seq.

Dated: October 24, 2024.
Lisa Manning,
Acting Chief, Endangered Species Conservation Division, Office of Protected Resources, National Marine Fisheries Service.

[FR Doc. 2024-25177 Filed 10-29-24; 8:45 am]

BILLING CODE 3510-22-P